DEPARTMENT OF TRANSPORTATION

Federal Railroad Administration

[Docket Number FRA-2008-0010]

Petition for Waiver of Compliance

In accordance with Part 211 of Title 49 Code of Federal Regulations (CFR), this document provides the public notice that by a document dated December 19, 2013, the Sonoma-Marin Area Rail Transit District (SMART), owner of 77 miles of former Northwestern Pacific Railroad Company trackage in Marin, Sonoma, and Napa Counties, CA, has petitioned the Federal Railroad Administration (FRA) for a reconsideration of an approval condition on the Brazos Drawbridge at Milepost 64.7. SMART asked FRA to reconsider Condition 4 of FRA-2008-0010, granted on February 24, 2009, which states, “Approval is for freight movements only and shall be revisited prior to any passenger operations.”

SMART, Amtrak, and the Capitol Corridor Joint Powers Authority are asking for an exception to the condition cited above to permit the operation of two round-trip, chartered Amtrak passenger trains over the Brazos Drawbridge to Sonoma Raceway on Sunday, June 22, 2014, for a NASCAR Special, and on Sunday, August 24, 2014, for an Indy Car Special. The two passenger trains are an 11-car train from and to Sacramento, CA, and a 5-car train from and to San Jose, CA.

FRA previously granted an exception to the condition cited above to allow a chartered Amtrak special train a 1-day movement on June 23, 2013, over the Brazos Drawbridge while operating between Sacramento and Sonoma Raceway. That special train was considered a great success, and the Sonoma Raceway has requested SMART's cooperation in arranging for the operation of two special trains on June 22, 2014, as well as two special trains on August 24, 2014.

The intended operating route of these special trains is from Sacramento and San Jose on the Union Pacific Railroad to Suisun-Fairfield, via the California Northern Railroad from Suisun-Fairfield to Brazos Junction, and over SMART trackage from Brazos Junction over the Brazos Drawbridge to Sonoma Raceway and return.

As in 2013, a specific operating plan will be in place to ensure correct operation of the Brazos Drawbridge and the safety of train operations, equipment, passenger boarding and alighting, staffing, and raceway access and egress.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by March 28, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-02863 Filed 2-10-14; 8:45 am]

BILLING CODE 4910-06-P